POSTAL SERVICE

Board of Governors; Sunshine Act Meeting

Board Votes To Close January 10, 2013, Meeting

By telephone vote on January 10, 2013, members of the Board of Governors of the United States Postal Service met and voted unanimously to close to public observation its meeting held in Washington, DC, via teleconference. The Board determined that no earlier public notice was possible.

MATTERS CONSIDERED: 1. Strategic Issues.

GENERAL COUNSEL CERTIFICATION: The General Counsel of the United States Postal Service has certified that the meeting was properly closed under the Government in the Sunshine Act.

CONTACT PERSON FOR MORE INFORMATION: Requests for information about the meeting should be addressed to the Secretary of the Board, Julie S. Moore, at (202) 268-4800.

Julie S. Moore,
Secretary.

[FR Doc. 2013-01756 Filed 1-24-13; 11:15 am]

BILLING CODE 7710-12-P